DEPARTMENT OF HEALTH AND HUMAN SERVICES

National Institutes of Health

National Cancer Institute; Amended Notice of Meeting

Notice is hereby given of a change in the meeting of the NCI-Frederick Advisory Committee, January 25, 2012, 10:30 a.m. to January 25, 2012, 4 p.m., NCI Frederick Library and Conference Center, Building 549, 549 Sultan Drive, Executive Board Room, Frederick, MD 21702, which was published in the Federal Register on December 21, 2011, 76 FR 79200.

This notice is amended to add additional instructions for members of the public entering the NCI-Frederick Campus. All visitors must enter through the Old Farm gate entrance located at the intersection of Old Farm Drive and Rosemont Avenue and have their vehicles searched. Additionally, individuals will also need to provide the officers at Old Farm with proof of identification (e.g., driver's license, NIH ID, or passport), proof of vehicle insurance and registration. This meeting is open to the public.

Dated: January 3, 2012.
Jennifer S. Spaeth,
Director, Office of Federal Advisory Committee Policy.

[FR Doc. 2012-268 Filed 1-10-12; 8:45 am]

BILLING CODE 4140-01-P